DEPARTMENT OF COMMERCE

National Oceanic and Atmospheric Administration

Proposed Information Collection; Comment Request; Southern Resident Killer Whale Watching Industry Socioeconomic Study

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 21, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Suzanne M. Russell, 206-860-3274 or suzanne.russell@noaa.gov.

SUPPLEMENTARY INFORMATION:

I. Abstract

Orca whales, also known as killer whales (Orcinus orca), are cultural icons for the human residents of the Pacific Northwest's Puget Sound. The importance of killer whales is clearly evident for the tribal cultures of the area, expressed in artwork throughout the Pacific Northwest, and for the whale watching tourism industry.

In 2003, the Southern Resident Killer Whales (SRKW) were officially listed as depleted under the Marine Mammal Protection Act (MMPA). This listing resulted in the development of a proposed conservation plan which outlines the steps to be taken to restore the population to full health. In 2005, the SRKW were selected for additional protection through an endangered species listing under the Endangered Species Act (ESA).

The presence of killer whales in the Puget Sound basin brings these animals in close proximity to humans. This unique circumstance has fostered the development of a whale watching industry that aims to provide tourists opportunities to view the whales. This industry is dependent on the healthy existence of the whales and their continued return to the Puget Sound.

Ongoing marine biological studies related to the SRKW consider many aspects of the ecosystem. Social sciences consider the human components of the ecosystem. Together, the biological and social sciences can complement one another, leading toward a more integrated understanding of the ecosystem. The link between the SRKW and the whale watching industry in the Puget Sound provides a uniquely important rational for conducting studies in both biological and social science disciplines. The main goal of this study is to describe the whale watching tourism industry as it pertains to the SRKW.

II. Method of Collection

Literature reviews, secondary sources including Internet sources, U.S. Census data, key informants, focus groups, paper surveys, electronic surveys, and in person interviews will be utilized to obtain the broadest scope of information as possible.

III. Data

OMB Number: None.

Form Number: None.

Type of Review: Regular submission.

Affected Public: Individuals or households; not-for-profit institutions; and business or other for-profit organizations; State or Local government, Federal government.

Estimated Number of Respondents: 350.

Estimated Time Per Response: 2 hours and 50 minutes.

Estimated Total Annual Burden Hours: 1,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 15, 2005.
Gwellnar Banks,
Management Analyst, Office of the Chief Information Officer.

[FR Doc. E5-7585 Filed 12-20-05; 8:45 am]

BILLING CODE 3510-22-P